DEPARTMENT OF DEFENSE

GENERAL SERVICES ADMINISTRATION

NATIONAL AERONAUTICS AND SPACE ADMINISTRATION

48 CFR Parts 6, 15, and 19

[FAC 2005-58; FAR Case 2009-038; Correction; Docket 2010-0095, Sequence 2]

RIN 9000-AL55

Federal Acquisition Regulation; Justification and Approval of Sole-Source 8(a) Contracts: Correction

AGENCIES: Department of Defense (DoD), General Services Administration (GSA), and National Aeronautics and Space Administration (NASA).

ACTION: Final rule; correction.

SUMMARY: DoD, GSA, and NASA are issuing a correction to the summary statement of FAR Case 2009-038; Justification and Approval of Sole-Source 8(a) Contracts, which was published in the Federal Register at 77 FR 23369, April 18, 2012.

DATES: Effective Date: June 14, 2012.

FOR FURTHER INFORMATION CONTACT: Mr. Karlos Morgan, Procurement Analyst, at 202-501-2364, for clarification of content. For information pertaining to status or publication schedules, contact the Regulatory Secretariat at 202-501-4755. Please cite FAC 2005-58; FAR Case 2009-038; Correction.

SUPPLEMENTARY INFORMATION:

Background

DoD, GSA, and NASA are issuing a correction to the summary statement of FAR Case 2009-038; Justification and Approval of Sole-Source 8(a) Contracts, which was published in the Federal Register at 77 FR 23369, April 18, 2012. The correction removes language indicating that the applicable section of the National Defense Authorization Act for Fiscal Year 2010 being implemented by FAR Case 2009-038 requires the head of an agency to make public, prior to award, the justification and approval for an 8(a) sole-source contract exceeding $20 million dollars.

Correction

In rule FR Doc. 2012-9204 published in the Federal Register at 77 FR 23369, April 18, 2012 make the following correction:

On page 23369, in the first column, in the SUMMARY remove the words “and make public.”

Authority: 40 U.S.C. 121(c); 10 U.S.C. chapter 137; and 42 U.S.C. 2473(c).

Dated: June 8, 2012.
Laura Auletta,
Director, Office of Governmentwide Acquisition Policy, Office of Acquisition Policy, Office of Governmentwide Policy.

[FR Doc. 2012-14523 Filed 6-13-12; 8:45 am]

BILLING CODE 6820-EP-P